DEPARTMENT OF THE INTERIOR

Bureau of Land Management

[LLUTG02100/18X/L14400000.EU0000; UTU-92606]

Notice of Realty Action; Proposed Modified Competitive Sale of Public Land, Utah

AGENCY: Bureau of Land Management, Interior.

ACTION: Notice of realty action.

SUMMARY: The Bureau of Land Management (BLM) is considering the modified competitive sale of 160 acres of public land in Emery County, Utah, at not less than the appraised fair market value to the adjacent landowners Hunter Prep Plant LLC, Ross Huntington, and Clinton Price.

DATES: In order to ensure consideration in the environmental analysis of the proposed sale, comments must be received by August 30, 2018.

ADDRESSES: Address all written comments concerning this notice to the BLM, Price Field Office, Attn: Hunter Plant Public Land Disposal, 125 S. 600 W, Price, Utah, 84501. Electronic mail will also be accepted and should be sent to BLM_UT_PR_Comments@blm.gov with “Hunter Plant Public Land Disposal” inserted in the subject line.

FOR FURTHER INFORMATION CONTACT: Jaydon Mead, Realty Specialist, (435) 636-3646, at the above address, or email to jmead@blm.gov. Persons who use a telecommunication device for the deaf (TDD) may call the Federal Relay Service (FRS) at (800) 877-8339 to contact the above individual. The FRS is available 24 hours a day, 7 days a week, to leave a message or question with the above individual. You will receive a reply during normal business hours.

SUPPLEMENTARY INFORMATION: The following described public land in Emery County, Utah, is being considered for modified competitive sale, subject to the applicable provisions of Sections 203 and 209 of the Federal Land Policy and Management Act of 1976 (FLPMA) and 43 CFR parts 2711 and 2720:

Salt Lake Meridian, Utah

T. 19 S, R. 8 E,

Sec. 21, E½NW¼, SW¼NW¼, and NE¼SW¼.

The area described contains 160 acres, according to the official plat of the survey of the said land, on file with the BLM.

The proposed sale is in conformance with the BLM Price Field Office Resource Management Plan (PFO RMP) that was approved in October 2008. The parcel is identified for disposal by sale under Section 203 of FLPMA in the PFO RMP on page 2 of Appendix R-11. This parcel of land was identified for disposal because it is isolated from large blocks of public land making it difficult and uneconomic to manage. The land would be offered to the adjoining land owners on a modified competitive basis, with Hunter Prep Plant, LLC, as the designated bidder, giving them the right to meet the highest bid pursuant to 43 CFR 2711.3-2(a)(1). Conveyance of the identified public land would be subject to valid existing rights and encumbrances of record. Conveyance of any mineral interests pursuant to Section 209 of FLPMA will be analyzed during processing of the proposed sale. On July 16, 2018, the above-described land will be segregated from appropriation under the public land laws, including the mining laws, except the sale provisions of FLPMA. Until completion of the sale action, the BLM is no longer accepting land use applications affecting the identified public land. The segregative effect will terminate upon issuance of a patent, publication in the Federal Register of a termination of the segregation, or July 16, 2020, unless extended by the BLM Utah State Director in accordance with 43 CFR 2711.1-2(d) prior to the termination date.

For a period until August 30, 2018, interested parties and the general public may submit in writing any comments concerning the land being considered for sale, including notification of any encumbrances or other claims relating to the identified land, to the Field Manager, BLM Price Field Office, at the above address. In order to ensure consideration in the environmental analysis of the proposed sale, comments must be in writing and postmarked or delivered within 45 days of the initial date of publication of this notice. Comments, including names and street addresses of respondents, will be available for public review at the BLM Price Field Office during regular business hours, except holidays. Individual respondents may request confidentiality. Before including your address, phone number, email address, or other personal identifying information in your comment, be advised that your entire comment—including your personal identifying information—may be made publicly available at any time. While you can ask us in your comment to withhold from public review your personal identifying information, we cannot guarantee that we will be able to do so.

Authority: 43 CFR 2711.1-2.

Edwin L. Roberson,
State Director.

[FR Doc. 2018-15063 Filed 7-13-18; 8:45 am]

BILLING CODE 4310-DQ-P